DEPARTMENT OF HEALTH AND HUMAN SERVICES

Office of the Secretary

Request for Comments on the Draft Department Strategic Plan for FY 2018-2022

AGENCY: Office of the Secretary, Office of the Assistant Secretary for Planning and Evaluation, Health and Human Services.

ACTION: Request for Comments on the Draft Strategic Plan FY 2018-2022.

SUMMARY: The Department of Health and Human Services (HHS) is seeking public comment on its draft Strategic Plan for Fiscal Years 2018-2022.

DATES: Submit comments on or before October 26, 2017.

ADDRESSES: Written comments can be provided by email, fax or U.S. mail.

Email: HHSPlan@hhs.gov.

Fax: (202) 690-5882.

Mail: U.S. Department of Health and Human Services, Office of the Assistant Secretary for Planning and Evaluation, Strategic Planning Team, Attn: Strategic Plan Comments, 200 Independence Avenue SW., Room 415F, Washington, DC 20201.

FOR FURTHER INFORMATION CONTACT: Sarah Potter, (202) 260-6518.

SUPPLEMENTARY INFORMATION: The draft Department of Health and Human Services Strategic Plan FY 2018-2022 is provided as part of the strategic planning process under the Government Performance and Results Modernization Act of 2010 (GPRA-MA) (Pub. L. 111-352) to ensure that Agency stakeholders are given an opportunity to comment on this plan.

This document articulates how the Department will achieve its mission through five strategic goals. These five strategic goals are (1) Reform, Strengthen, and Modernize the Nation's Health Care System, (2) Protect the Health of Americans Where They Live, Learn, Work, and Play, (3) Strengthen the Economic and Social Well-Being of Americans across the Lifespan, (4) Foster Sound, Sustained Advances in Sciences, and (5) Promote Effective and Efficient Management and Stewardship. Each goal is supported by objectives and strategies.

The strategic planning consultation process is an opportunity for the Department to refine and strengthen the HHS Strategic Plan FY 2018-2022. The Department has made significant progress in its strategic and performance planning efforts. As we build on this progress we look forward to receiving your comments by October 26, 2017. The text of the draft HHS Strategic Plan FY 2018-2022 is available through the Department of Health and Human Services Web site at https://www.hhs.gov/draft-strategic-plan.

For comparison purposes, the current HHS Strategic Plan FY 2014-2018 can be viewed at https://www.hhs.gov/about/strategic-plan/index.html.

For those who may not have Internet access, a hard copy can be requested from the contact point, Sarah Potter, (202) 260-6518.

Dated: September 20, 2017.
John R. Graham,
Acting Assistant Secretary for Planning and Evaluation.

[FR Doc. 2017-20613 Filed 9-26-17; 8:45 am]

BILLING CODE 4151-05-P